ENVIRONMENTAL PROTECTION AGENCY

40 CFR Part 81

[EPA-R03-OAR-2010-0431; FRL-9197-5]

Approval and Promulgation of Air Quality Implementation Plans; Maryland; Withdrawal of Direct Final Rule

AGENCY: Environmental Protection Agency (EPA).

ACTION: Withdrawal of direct final rule.

SUMMARY: Due to an adverse comment, EPA is withdrawing the direct final rule to extend the attainment date from June 15, 2010 to June 15, 2011 for the Baltimore nonattainment area, which is classified as moderate for the 1997 8-hour ozone national ambient air quality standard (NAAQS). In the direct final rule published on July 23, 2010, we stated that if we received any adverse comments by August 23, 2010, the rule would be withdrawn and would not take effect. EPA received an adverse comment within the comment period. EPA will address the comment received in a subsequent final action based upon the proposed action also published on July 23, 2010 (75 FR 43114). EPA will not institute a second comment period on this action.

DATES: Effective Date: The direct final rule is withdrawn as of September 8, 2010.

FOR FURTHER INFORMATION CONTACT: Gregory Becoat, (215) 814-2036, or by e-mail at becoat.gregory@epa.gov.

List of Subjects in 40 CFR Part 81

Environmental protection, Air pollution control, National parks, Wilderness areas.

Dated: August 18, 2010.
Shawn M. Garvin,
Regional Administrator, Region III.

Accordingly, the amendments to § 81.321, published in the direct final rule on July 23, 2010 (75 FR 43069), are withdrawn as of September 8, 2010.

[FR Doc. 2010-22344 Filed 9-7-10; 8:45 am]

BILLING CODE 6560-50-P